DEPARTMENT OF ENERGY

Federal Energy Regulatory Commission

[Project No. 3562-026]

KEI (Maine) Power Management (III) LLC; Notice of Settlement Agreement and Soliciting Comments

Take notice that the following settlement agreement has been filed with the Commission and is available for public inspection.

a. Type of Application: Settlement Agreement.

b. Project No.: 3562-026.

c. Date filed: April 29, 2022.

d. Applicant: KEI (Maine) Power Management (III) LLC.

e. Name of Project: Barker Mill Upper Hydroelectric Project (a.k.a. Upper Barker Project).

f. Location: On the Little Androscoggin River, in the City of Auburn, Androscoggin County, Maine. The project does not affect federal lands.

g. Filed Pursuant to: Rule 602 of the Commission's Rules of Practice and Procedure, 18 CFR 385.602.

h. Applicant Contact: Lewis C. Loon, General Manager, KEI (USA) Power Management Inc., 423 Brunswick Avenue, Gardiner, ME 04345; phone at (207) 203-3027; email at LewisC.Loon@krueger.com.

i. FERC Contact: John Matkowski, telephone (202) 502-8576, and email john.matkowski@ferc.gov.

j. Deadline for filing comments: May 25, 2022. Reply comments due June 4, 2022.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3562-026.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. KEI (Maine) Power Management (III) LLC (KEI Power) filed a Settlement Agreement for the Barker's Mill Project (FERC No. 2808),¹ Upper Barker Project (FERC No. 3562), and Marcal Project (FERC No. 11482) (Settlement) executed by and between the licensee and the U.S. Department of Justice, the U.S. Fish and Wildldife Service, the National Marine Fisheries Service, the Maine Department of Marine Resources (Maine DMR), and the Maine Department of Inland Fisheries and Widlife (Settlement Parties). The purpose of the Settlement is to resolve the parties' disagreements over the issues related to fish and aquatic resource management, including upstream and downstream passage measures for American eel, river herring, American shad, sea lamprey, and Atlantic salmon; minimum flow releases; and, aquatic invasive species. Specifically for the relicensing of the Upper Barker Project, the Settlement provides for: (1) Coordinating the time frame for providing upstream and downstream fish passage at the Upper Barker Project; (2) aligning the minimum and seasonal flows at the Upper Barker and the Lower Barker Projects; (3) aligning the Upper Barker and Lower Barker Projects license terms by extending the 40-year license term of the Lower Barker Project to 50 years and requesting a license term of 47 years for the Upper Barker Project; (4) establishing an off-license agreement to fund an Androscoggin Basin Stewardship Fund administered by Maine DMR to benefit spawning and rearing habitat in the basin; and (5) assuring, through an off-license agreement, the resources agencies' support for KEI Power's request for Low Impact Hydropower Institute certification for the Upper Barker Project.

¹ The Barker's Mill Project is also known as and referred herein as the Lower Barker Project.

l. A copy of the Settlement Agreement is available for review on the Commission's website at http://www.ferc.gov using the “eLibrary” link. Enter the docket number excluding the last three digits in the docket number field to access the document (i.e., P-3562). For assistance, contact FERC Online Support.

You may also register online at http://www.ferc.gov/docs-filing/esubscription.asp to be notified via email of new filings and issuances related to this or other pending projects. For assistance, contact FERC Online Support.

Dated: May 5, 2022.
Debbie-Anne A. Reese,
Deputy Secretary.

[FR Doc. 2022-10103 Filed 5-10-22; 8:45 am]

BILLING CODE 6717-01-P